DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 77 FR 46098-46099 dated August 2, 2012).

This notice reflects organizational changes in the Health Resources and Services Administration (HRSA). Specifically, this notice updates the functional statement for both the Office of Operations (RB) and the Office of Management (RB4) to include the human resources function for HRSA; transfers the records management function from the Division of Policy and Information Coordination (RB41) to the Immediate Office of the Director, Office of Management (RB4); transfers the personnel security function from the Division of Workforce Management (RB42) to the Division of Management Services (RB43); transfers the workforce planning function from the Division of Workforce Management (RB42) to the Division of Workforce Development (RB44); and renames the Division of Workforce Management (RB42) to the Division of Human Resources Management (RB42).

Chapter RB—Office of Operations

Section RB-20, Functions

(1) Delete the functional statement for the Office of Operations in its entirety and replace with the following:

The Office of Operations: provides leadership for operational activities, interaction and execution of Agency initiatives across the Health Resources and Services Administration; (2) plans, organizes and manages annual and multi-year budgets and resources and assures that the conduct of Agency administrative and financial management activities effectively support program operations; (3) provides an array of Agency-wide services including information technology, procurement management, facilities, human resources, workforce management, and budget execution and formulation; (4) maintains overall responsibility for policies, procedures, and monitoring of internal controls and systems related to payment and disbursement activities; (5) provides management expertise, staff advice, and support to the Administrator in program and policy formulation and execution; (6) provides leadership in the development, review and implementation of policies and procedures to promote improved information technology management capabilities and best practices throughout HRSA; (7) coordinates IT workforce issues and works closely with the Department on IT recruitment and training issues; and (8) administers functions of the Chief Financial Officer.

Chapter RB4—Office of Management

Section RB4-10, Organization

Delete in its entirety and replace with the following:

The Office of Management (RB4) is headed by the Director, Office of Management within the Office of Operations, Health Resources and Services Administration, who reports directly to the Chief Operating Officer. The Office of Management includes the following components:

(1) Immediate Office of the Director (RB4);

(2) Division of Policy and Information Coordination (RB41);

(3) Division of Human Resources Management (RB42);

(4) Division of Management Services (RB43); and

(5) Division of Workforce Development (RB44).

Section RB4-20, Functions

(1) Delete the functional statement for the Office of Management (RB4) and replace in its entirety; (2) transfer the records management function from the Division of Policy and Information Coordination (RB41) to the Immediate Office of the Director (RB4); transfer the personnel security function from the Division of Workforce Management (RB42) to the Division of Management Services (RB43); transfer the workforce planning function from the Division of Workforce Management (RB42) to the Division of Workforce Development (RB44); and rename the Division of Workforce Management (RB42) to the Division of Human Resources Management (RB42).

Office of Management (RB4)

Provides HRSA-wide leadership, program direction, and coordination of all phases of administrative management. Specifically, the Office of Management: (1) Provides management expertise, staff advice, and support to the Administrator in program and policy formulation and execution; (2) provides administrative management services including human resources, property management, space planning, safety, physical security, and general administrative services; (3) conducts HRSA-wide workforce analysis studies and surveys; (4) plans, directs, and coordinates HRSA's activities in the areas of human resources management, including labor relations, personnel security, and performance; (5) coordinates the development of administrative policies and regulations; (6) oversees the development of annual operating objectives and coordinates HRSA work planning and appraisals; (7) directs and coordinates HRSA's organizations, functions and delegations of authority programs; (8) administers the Agency's Executive Secretariat and committee management functions; (9) provides staff support to the Agency Chief Travel Official; (10) provides staff support to the Deputy Ethics Counselor; (11) directs, coordinates, and conducts workforce development activities for HRSA; and (12) manages and maintains a records management program for the Agency.

Division of Policy and Information Coordination (RB41)

(1) Advises the Administrator and other key Agency officials on cross-cutting policy issues and assists in the identification and resolution of cross-cutting policy issues and problems; (2) establishes and maintains tracking systems that provide HRSA-wide coordination and clearance of policies, regulations and guidelines; (3) plans, organizes and directs the Executive Secretariat with primary responsibility for preparation and management of written correspondence; (4) arranges briefings for Department officials on critical policy issues and oversees the development of necessary briefing documents; (5) coordinates the preparation of proposed rules and regulations relating to HRSA programs and coordinates review and comment on other Department regulations and policy directives that may affect HRSA programs; (6) oversees and coordinates the committee management activities; and (7) coordinates the review and publication of Federal Register notices.

Division of Human Resources Management (RB42)

(1) Provides advice and guidance on all aspects of the HRSA human resources management program; (2) provides the full range of human resources operations including: employment; staffing and recruitment; compensation; classification; executive resources; labor and employee relations; employee benefits; and retirement; (3) develops and coordinates the implementation of human resources policies and procedures for HRSA's human resources activities; (4) monitors, evaluates, and reports on the effectiveness, efficiency and compliance with HR laws, rules, and regulations; (5) provides advice and guidance for the establishment or modification of organization structures, functions, and delegations of authority; (6) manages the ethics program; (7) administers the performance management programs, including the SES Performance Review Board; (8) manages the incentive and honor awards programs; (9) represents HRSA in human resources matters both within and outside of the Department; and (10) oversees the commissioned corps liaison activities including the day-to-day operations of workforce management.

Division of Management Services (RB43)

Plans, directs and coordinates Agency administrative activities. Specifically: (1) Provides administrative management services including property, space planning, safety, physical security, and general administrative services; (2) ensures implementation of statutes, Executive Orders, and regulations related to official travel, transportation, and relocation; (3) provides oversight for the HRSA travel management program involving use of travel management systems, passenger transportation, and travel charge cards; (4) provides planning, management and oversight of all space planning projects, move services and furniture requirements; (5) develops space and furniture standards and related policies; (6) provides analysis of office space requirements required in supporting decisions relating to the acquisition of commercial leases; (7) provides advice, counsel, direction, and support to employees to fulfill the Agency's primary safety responsibility of providing a workplace free from recognizable safety and health concerns; (8) manages, controls, and/or coordinates all matters relating to mail management within HRSA, including developing and implementing procedures for the receipt, delivery, collection, and dispatch of mail; (9) maintains overall responsibility for the HRSA Forms Management Program; and (10) manages the personnel security, badging, Transhare and quality of work life programs.

Division of Workforce Development (RB44)

(1) Plans, directs, and manages HRSA-wide training programs, intern, professional and leadership development programs, the long-term training program, and the mentoring program; (2) develops, designs, and implements a comprehensive strategic human resource leadership development and career management program for all occupational series throughout HRSA; (3) provides technical assistance in organizational development, career management, employee development, and training; (4) maximizes economies of scale through systematic planning and evaluation of Agency-wide training initiatives to assist HRSA employees in achieving required competencies; (5) identifies relevant scanning/benchmarking on workforce and career development processes, services, and products; (6) establishes policies governing major learning initiatives and new learning activities, and works collaboratively with other components of HRSA in planning, developing, and implementing policies related to training initiatives; (7) plans, directs, and manages HRSA-wide training and service programs for fellowships and internships sponsored by other partner organizations and implemented within HRSA; (8) conducts Agency-wide workforce analysis studies and surveys; (9) develops comprehensive workforce strategies that meet the requirements of the Office of Personnel Management and the Department of Health and Human Services, programmatic needs of HRSA, and the governance and management needs of HRSA leadership; and (10) evaluates employee development practices to develop and enhance strategies to ensure HRSA retains a cadre of public health professionals and reduces risks associated with turnover in mission critical positions.

Section RB4-30, Delegations of Authority

All delegations of authority and re-delegations of authority made to HRSA officials that were in effect immediately prior to this reorganization, and that are consistent with this reorganization, shall continue in effect pending further re-delegation.

This reorganization is effective upon date of signature.

Dated: July 26, 2012.
Mary K. Wakefield,
Administrator.

[FR Doc. 2012-19421 Filed 8-7-12; 8:45 am]

BILLING CODE 4165-15-P